DEPARTMENT OF ENERGY

Federal Energy Regulatory Commission

[Docket No. CP01-97-000]

Nornew Energy Supply, Inc. and Norse Pipeline, L.L.C.; Notice of Application

March 13, 2001.

Take notice that on March 1, 2001, as supplemented on March 9, 2001, Nornew Energy Supply, Inc. (Nornew), 19 Ivy Street, Jamestown, New York 14701 and Norse Pipeline, L.L.C. (Norse), 2500 Tanglewilde, Suite 250, Houston, Texas 77063, filed in Docket No. CP01-97-000 an abbreviated application pursuant to Section 7 of the Natural Gas Act (NGA) and the Commission's Rules and Regulations for a limited term certificate of public convenience and necessity authorizing Nornew and Norse to deliver gas to the City of Jamestown Board of Public Utilities (Jamestown BPU) to its repowered Samuel A. Carlson Generating Station (Carlson Generating Station), located in Jamestown, New York, and for Nornew to construct and operate a four-inch tap within the Carlson Generating Station's existing plant yard for a limited period beginning March 30, 2001 and ending once the Commission issues a permanent certificate of public convenience and necessity to Nornew, in order to provide natural gas to fuel the Carlson Generating Station to permit testing of the new gas-powered turbine and provide Jamestown BPU's customers with electric services, all as more fully set forth in the application which is on file with the Commission and open to public inspection. The filing may be viewed at http://www.ferc.us/online/rims.htm (call 202-208-2222 for assistance).

Norse and Nornew's request for a limited-term certificate is a result of the Commission's previous orders that ruled that Nornew's eight-inch, 7.63 mile pipeline that was constructed to serve the Jamestown BPU as well as some or all of Norse's facilities would be jurisdictional facilities requiring an NGA Section 7(c) certificate.¹ Norse will deliver to Nornew, at an existing interconnection in Mayville, New York, gas produced from wells connected to Norse's system. Nornew will deliver such gas to its only customer, the Jamestown BPU. According to Nornew, the Carlson Generating Station is currently coal-fired, but the Jamestown BPU is in the process of upgrading its equipment to provide flexibility in fuel supply and to improve environmental quality by displacing coal with cleaner burning natural gas. Nornew anticipates that it would transport approximately 3,000 Mcf/d during the testing of the new turbine. Nornew states that the cost of the tap is $160,000 plus $25,000 for installation. Additionally, Nornew states that the facilities will be financed through Nornew's credit facility.

¹ National Fuel Gas Distribution Corporation, 93 FERC ¶ 61,276 (2000), reh'g denied, 94 FERC ¶ 61,136 (2001).

Any person desiring to be heard or to make any protest with reference to said application on or before March 21, 2001, file with the Federal Energy Regulatory Commission, 888 First Street, NE., Washington, DC 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. Any person wishing to become a party to a proceeding or to participate as a party in any hearing therein must file a motion to intervene in accordance with the Commission's Rules. Any questions regarding the application should be directed to Oivind Risberg, President, Nornew Energy Supply, Inc., 2500 Tanglewilde, Suite 250, Houston, Texas 77603, telephone (713) 975-1900.

Comments, protests, and interventions may be filed electronically via the internet in lieu of paper. See, 18 CFR 385.2001(a)(1)(iii) and the instructions on the Commission's web site at http://www.ferc.fed.us/efi/doorbell.htm.

A person obtaining intervenor status will be placed on the service list maintained by the Secretary of the Commission and will receive copies of all documents filed by the applicant and by everyone of the intervenors. An intervenor can file for rehearing of any Commission order and can petition for court review of any such order. However, an intervenor must submit copies of comments or any filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order at a federal court.

The Commission will consider all comments and concerns equally, whether filed by commenters or those requesting intervenor status.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure herein provided for, unless otherwise advised, it will be unnecessary for Norse and Nornew to appear or be represented at the hearing.

David P. Boergers,
Secretary.

[FR Doc. 01-6717 Filed 3-16-01; 8:45 am]

BILLING CODE 6717-01-M